DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 67 FR 18914-18921, dated April 17, 2002) is amended to establish the National Personal Protective Technology Laboratory within the National Institute for Occupational Safety and Health, Centers for Disease Control and Prevention. The Laboratory will be located in Pittsburgh, PA.

Section C-B, Organization and Functions, is hereby amended as follows:

Delete the functional statement for the Disaster Prevention and Response Branch (CC27), Pittsburgh Research Laboratory (CC2), and insert the following:

(1) Conducts laboratory and field investigations of catastrophic events such as explosions and catastrophic structural or ground failures to better understand cause and effect relationships that initiate such events; (2) designs and implements appropriate intervention strategies; (3) develops, tests, and promotes the use of disaster prediction and risk evaluation systems for control or reduction of risk; (4) develops criteria and tests for explosives to determine their suitability for mine use and transportation; (5) evaluates and recommends implementation strategies for disaster prevention; (6) assists in the development and evaluation of curricula for mine rescue and firefighting in conjunction with other health education, health communication, and other information and education activities of the Institute.

Delete the functional statement for the Division of Respiratory Disease Studies (CCA) and insert the following:

(1) Provides national and international leadership for understanding and preventing occupational respiratory disease; (2) plans, designs and conducts a national research program for the prevention of occupational respiratory disease; (3) upon request, conducts hazard evaluations and provides technical assistance to address emerging problems in occupational respiratory disease; (4) plans, designs and conducts a national surveillance program for occupational respiratory disease; (5) communicates study findings for the prevention of occupational respiratory diseases and evaluates the effectiveness of these communications; (6) administers a program of legislatively mandated medical services for coal miners under the Federal Mine Safety and Health Act (FMSHAct) of 1977.

Delete the functional statement for the Laboratory Research Branch (CCA9), Division of Respiratory Disease Studies (CCA), and insert the following:

(1) Conducts laboratory research complementary to, and coordinated with, field investigations of occupational respiratory diseases; (2) formulates and implements laboratory research which will identify factors involved in the early detection and differential rates of susceptibility to occupational respiratory disease; (3) develops new methods to improve detection and measurement of human response to respiratory hazards found in the workplace; (4) develops new methods and technologies to characterize and measure respiratory exposure agents; (5) devises and conducts clinical research studies on the causes, detection, and quantification of occupational respiratory disease; (6) in conjunction with researchers in the Health Effects Laboratory Division (HELD), carries out an experimental pathology program utilizing appropriate laboratory animals to study the mechanism and progression of lung damage from occupational respiratory exposures.

Delete in their entirety and title and functional statement for the Respirator Branch (CCAA), Division of Respiratory Disease Studies (CCA).

Delete the functional statement for the Surveillance Branch (CCAB), Division of Respiratory Disease Studies (CCA), and insert the following:

(1) Collects, analyzes and disseminates health and hazard information related to occupational respiratory diseases; (2) collaborates on the establishment of health surveillance systems in order to: (a) summarize information relating to overall incidence, prevalence, mortality, and importance of occupational respiratory diseases; (b) describe the occurrence of specific diseases (including temporal trends) with regard to occupation, industry, geography, demographic characteristics, and other factors for which information is available; (c) describe the distribution and trends in occupational exposure to agents responsible for respiratory diseases; (3) produces and develops reports describing workplace hazards and work-related occupational lung diseases; (4) coordinates with other Federal agencies and promulgates rules as provided for in the FMSHAct of 1977, and the OSHAct of 1970, to provide for the collection and reporting of health and hazard surveillance data related to occupational respiratory diseases; (5) provides technical assistance and recommendations concerning medical screening and health surveillance of workers exposed to respiratory hazards in the workplace; (6) conducts surveys of hazardous exposures and the application and use of various exposure control technologies; (7) synthesizes data and frames recommendations for priority setting, hypothesis generation, and improved methods for data collection; (8) develops and evaluates surveillance methods of data collection, processing, and statistical analysis which are relevant to the Division mission.

Delete the functional statement for the Division of Safety Research (CCB) and insert the following:

(1) As the focal point for the Institute's occupational traumatic injury prevention and safety program, identifies the major causes of injuries and safety hazards, identifies interventions to improve worker safety, and supports implementation of these interventions; (2) develops scientifically sound recommendations for programs to prevent and control occupational traumatic injuries; (3) develops scientifically sound recommendations for the performance and use of equipment and various other devices for protecting workers; (4) evaluates the impact of targeted control programs for preventing or mitigating traumatic injury, diseases, disability, and death; (5) manages program planning/project coordination, including the Division's financial and personnel management systems, and ensures the scientific and program integrity of Division functions.

Delete the functional statement for the Methods and Analysis Section (CCB54), Analysis and Field Evaluations Branch (CCB5), Division of Safety Research (CCB), and insert the following:

(1) In collaboration with the Intervention and Evaluation Section, develops scientifically sound methods for the conduct of analytic epidemiologic investigation and applied field interventions trials to assess the effectiveness of new, redesigned, and existing technical, managerial, regulatory, and system safety engineering and occupational medicine approaches and programs for preventing injuries and for utilizing recommended work practices and equipment; (2) develops methods for the collection and analysis of data on the human and economic costs of occupational injuries and assures a cost-benefit component of studies where feasible; (3) collaborates in the development and implementation of analysis plans for epidemiologic and other data collected by the Branch; (4) designs and implements quality assurance efforts for the collection and management of data within the Branch; (5) develops information for dissemination to the scientific community as well as to employers, workers, safety and health professionals and others; (6) provides risk assessment analyses and services for improved decision making in job safety to the Protective Technology Branch, other components of NIOSH and CDC, other Federal agencies, and other public and private sector organizations.

Delete the functional statement for the Protective Technology Branch (CCB7), Division of Safety Research (CCB), and insert the following:

(1) Designs and develops new and improved safety engineering systems and controls, work practices, and equipment to protect workers; (2) tests and evaluates, in the laboratory, simulated workplace, and actual work-sites, existing and new technological approaches to worker protection, and occupational injury prevention and control; (3) evaluates the use and performance of safety engineering controls; (4) develops scientifically sound recommendations for the performance and use of existing or redesigned safety engineering controls, work practices, and equipment; (5) develops technical information to support recommendations for safety standards; (6) coordinates the preparation of technical informational packages from the Technology Development, Protective Equipment, and Safety Controls Sections; (7) provides recommendations to the Analysis and Field Evaluations Branch regarding specific hazards or interventions requiring further epidemiologic research and/or evaluation; (8) provides technical assistance and consultation to other Branches within the Division of Safety Research, other components of NIOSH and CDC, other Federal agencies, and other public and private sector organizations on the use of protective technology for the prevention of worker exposures to safety hazards that lead to injuries.

Delete the functional statement for the Protective Equipment Section (CCB74), Protective Technology Branch (CCB7), Division of Safety Research (CCB), and insert the following:

In coordination with the National Personal Protective Technology Laboratory (NPPTL): (1) Conducts research in the laboratory, simulated workplace, and actual workplace to identify ways to improve the performance of personal protective equipment other than respirators; (2) develops and validates test methods necessary to evaluate interventions and to increase the performance of personal protective equipment; (3) develops recommendations for relevant constituent groups on the use of effective personal protective equipment other than respirators; (4) assists in preparing technical informational packages to facilitate the proper use of all types of personal protective equipment.

Delete the functional statement for the Technology Development Section (CCB75), Protective Technology Branch (CCB7), Division of Safety Research (CCB), and insert the following:

(1) Conducts research in new technology and methodology for occupational safety research; (2) develops and validates test and measurement methods necessary to conduct safety controls and equipment research; (3) designs, modifies, calibrates, and maintains laboratory test equipment in support of Branch research activities; (4) develops recommendations for relevant constituent groups on the use of exposure assessment tools and occupational safety research technologies; (5) collaborates in developing recommendations for the use of effective safety engineering controls and work practices by relevant constituent groups; (6) collaborates in preparing technical informational packages to facilitate the proper use of occupational safety research technologies.

Following the functional statement for the Special Studies Section (CCB85), Surveillance and Field Investigations Branch (8CCB8), Division of Safety Research (CCB), insert the following:

National Personal Protective Technology Laboratory (CCC). (1) Conducts work site surveillance of hazards for which protective technologies and equipment are used to protect workers, and studies patterns of personal protective technology (PPT) use; (2) conducts a variety of laboratory and field research relating to the development and evaluation of innovative personal protective technologies and equipment; (3) researches and develops criteria, standards and guidelines relating to PPT performance, quality, reliability and efficacy; (4) directs and carries out the NIOSH respirator approval program and related laboratory, field, quality, and records activities; (5) produces and disseminates research findings, technical information, training materials, performance criteria, and recommendations for using personal protective equipment to improve protection of workers; (6) develops, studies and assesses the effectiveness of communications and training approaches and technologies relating to PPT.

Respirator Branch (CCC2). (1) Processes respirator approval applications; i.e., certifying performance, quality, reliability, and efficacy of respiratory protection devices in accordance with Federal regulations and NIOSH policy; (2) evaluates and maintains official records on NIOSH-approved respirators; (3) develops and promulgates new approval standards and regulations; (4) establishes NIOSH policy relating to the approval of respirators, including approval policies for innovative respirator features; (5) evaluates quality control plans, including in-plant manufacturing-site quality system audits, and monitors the quality and performance of certified respirators; (6) investigates field problems associated with NIOSH-certified respirators; (7) recommends NIOSH activities to address product non-conformance such as NIOSH approval rescission, product recalls or retrofits, and public notification of potentially unsafe products; (8) provides technical assistance on the selection, use, maintenance, and operation of respirator protective equipment.

Certification, Evaluation, and Testing Section (CCC22). (1) Develops programs, standard test procedures and evaluation criteria to determine if products submitted for NISOH approval meet established standards; (2) processes respirator manufacturer applications for NIOSH approval by reviewing engineering specifications, drawings, quality assurance and other pertinent documentation, and conducting standard laboratory tests on products to ensure they meet or exceed regulatory requirements, such as 42 CFR Part 84; (3) conducts laboratory tests on NIOSH-approved respirator equipment in support of product audits and special investigations; (4) develops respirator selection and use guidelines for NIOSH-approved respirators; (5) collects and processes application fees and materials; (6) tracks submitted applications; (7) responds to technical requests for information.

Quality Assurance Section (CCC23). (1) Conducts manufacturing site audits to ensure that manufacturers comply with the quality assurance program plans approved by NIOSH; (2) conducts audits of products purchased either “off-the-shelf” or from the manufacturer during site audits to ensure that the manufacturers continue to comply with all aspects of the approval requirements after the respirator is in production; (3) conducts audits of private laboratories authorized by NIOSH to conduct standard tests on respirators submitted to NIOSH for approval; (4) conducts audits of private auditors authorized by NIOSH to conduct manufacturing site or laboratory audits; (5) conducts product investigations of respirator failure/problems; (6) resolves or corrects problems that may include product recalls, field retrofits, requests to stop sale of the respirator as a NIOSH-approved device, or in extreme cases, approval revocation.

Policy and Standards Development Section (CCC24). (1) Identifies where research is needed to support new standards, regulations, and policies relating to NIOSH-certified respirators; (2) assesses research findings and translates them into effective NIOSH policy, regulations, and auditing practices, especially for new respirator technology or special applications; (3) holds public meetings to solicit information concerning users needs and the feasibility of specific technologies; (4) determines the public financial and legal impacts of Federal regulation revision.

LTFE/SCSRs Program Section (CCC25). (1) Assesses the in-mine operational durability and reliability of self-contained self-rescuers (SCSRs) deployed in accordance with Federal regulations 30 CFR 75.1714 and 42 CFR 84; (2) conducts laboratory assessments and recommends technology improvements, reliability test procedures and user guidelines for the effective care and inspection of SCSR devices; (3) provides technical assistance and consultation to other branches within NPPTL, other components of NIOSH and CDC, other Federal agencies, and other public and private sector organizations on SCSR reliability; (4) investigates SCSR failure and conducts field studies in various mines to assess and improve SCSR protection for workers.

Technology Branch (CCC3). (1) Encourages and conducts research related to innovative technologies for new products; (2) conducts laboratory and field research of methods and PPT performance, quality, reliability, and efficacy, especially for new or emerging hazards; (3) investigates emerging hazards and personal exposures to identify worker PPT needs and technology gaps; (4) conducts research for the effective integration of various personal protective technologies and equipment; (5) recommends performance, quality, reliability, and efficacy criteria; (6) conducts PPT failure investigations and analyses, and recommends criteria to improve PPT; (7) conducts hypothesis testing-based research; (8) studies and improves human/technology interfaces; (9) conducts research into the physiologic and psychologic stressors and worker responses to protective technologies and equipment; (10) recommends user guidelines, including cautions, limitations, and restrictions of use; (11) participates on national and international standards setting committees and establishes a national/international database of relevant standards.

Surveillance, Communications, and Training Branch (CCC4). (1) Collects data relevant to work site hazards and worker protection needs; (2) conducts surveillance of hazards for which protective technologies and equipment are used; (3) studies patterns of personal protective technology use; (4) investigates barriers to effective use of protective technologies; (5) conducts surveillance of PPT failures, and cautions and limitations of personal protective technologies and the programs guiding their use; (6) reports on the overall incidence, prevalence, and trends of illnesses and injuries of personnel engaged in high-risk occupations or working in extreme environments; (7) designs field studies in collaboration with other branches within NPPTL; (8) produces and disseminates technical information, research findings, training materials, performance criteria, and recommendations for using personal protective equipment to improve protection of workers; (9) studies and assesses communication effectiveness; (10) develops and evaluates the effectiveness of training approaches, e.g., technologies that simulate the effect of PPT on workers; (11) provides writing and editing support to the Laboratory's personnel.

Dated: June 7, 2002.
Julie L. Gerberding,
Acting Director.

[FR Doc. 02-15658 Filed 6-20-02; 8:45 am]

BILLING CODE 4160-18-M